DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Application for the Low-Power Television and Translator Digital-to-Analog Conversion Program.

Form Number(s): DTV-4.

OMB Approval Number: None.

Type of Review: Regular submission.

Burden Hours: 4,000.

Number of Respondents: 4,000.

Average Hours per Response: 1.

Needs and Uses: The Digital Television Transition and Public Safety Act of 2005 (Act) permits low-power television and translator stations to continue to broadcast in analog after February 17, 2009, the date on which full-power television facilities are required to convert to digital broadcasting. Most low-power television or translator stations extend the service area of a full-power television station by receiving the full-power station's off-air signal and then rebroadcasting the programming on another channel. After the full-power television station discontinues analog broadcasting on February 17, 2009, the low-power television station must be able to receive the full-power station's digital off-air signal.

The Act directs NTIA to administer a program through which an eligible low-power television or translator station may receive compensation toward the cost of the purchase of a digital-to-analog conversion device that enables the conversion of the incoming digital signal of its corresponding full-power television station to analog format for transmission on the station's analog channels.

The application makes possible the required review process for selecting applicants are funded.

Affected Public: Business or for-profit organizations; not-for-profit institutions; individuals or households; state, local, or tribal government.

Frequency: One-time-only.

Respondent's Obligation: Required to obtain or retain a benefit.

OMB Desk Officer: Jasmeet Seehra, (202) 395-3123.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent within 30 days of publication of this notice to Jasmeet Seehra, OMB Desk Officer, e-mail Jasmeet_K._Seehra@omb.eop.gov or fax (202) 395-5167.

Dated: July 23, 2007.
Gwellnar Banks,
Management Analyst, Office of the Chief Information Officer.

[FR Doc. E7-14454 Filed 7-25-07; 8:45 am]

BILLING CODE 3510-60-P